SOCIAL SECURITY ADMINISTRATION

[Docket No. SSA-2015-0055]

Social Security Ruling 16-3p; Titles II and XVI: Evaluation of Symptoms in Disability Claims

AGENCY: Social Security Administration.

ACTION: Notice of Social Security Ruling; correction.

SUMMARY: The Social Security Administration published a document in the Federal Register of March 16, 2016, in FR Doc. 2016-05916, on page 14172, in the second column; correct the “Effective Date” caption to read:

Effective Date: This SSR is effective on March 28, 2016.

Helen J. Droddy
Lead Regulations Writer, Office of Regulations and Reports Clearance, Social Security Administration.

[FR Doc. 2016-06598 Filed 3-23-16; 8:45 am]

BILLING CODE 4191-02-P